COMMODITY FUTURES TRADING COMMISSION

Market Risk Advisory Committee

AGENCY: Commodity Futures Trading Commission.

ACTION: Notice of meeting.

SUMMARY: The Commodity Futures Trading Commission (CFTC) announces that on March 8, 2023, from 9:30 a.m. to 12:30 p.m. (Eastern Standard Time), the Market Risk Advisory Committee (MRAC or Committee) will hold an in-person public meeting at the CFTC's Washington, DC headquarters with options for the public to attend virtually. At this meeting, the MRAC will discuss current topics and developments in the areas of central counterparty risk and governance, interest rate benchmark reform, climate-related risk, market structure, and innovative and emerging technologies affecting the derivatives and related financial markets.

DATES: The meeting will be held on March 8, 2023, from 9:30 a.m. to 12:30 p.m. (Eastern Standard Time). Please note that the meeting may end early if the MRAC has completed its business. Members of the public who wish to submit written statements in connection with the meeting should submit them by March 15, 2023.

ADDRESSES: The meeting will take place in the Conference Center at the CFTC's headquarters, Three Lafayette Centre, 1155 21st Street NW, Washington, DC 20581 subject to CFTC facility health protocols in place at that time. You may submit public comments, identified by “Market Risk Advisory Committee,” through the CFTC website at https://comments.cftc.gov. Follow the instructions for submitting comments through the Comments Online process on the website. If you are unable to submit comments online, contact Bruce Fekrat, Designated Federal Officer, or Marilee Dahlman, Alternate Designated Federal Officer, via the contact information listed below to discuss alternate means of submitting your comments. Any statements submitted in connection with the committee meeting will be made available to the public, including publication on the CFTC website, https://www.cftc.gov.

FOR FURTHER INFORMATION CONTACT: Bruce Fekrat, MRAC Designated Federal Officer, Commodity Futures Trading Commission, Three Lafayette Centre, 1155 21st Street NW, Washington, DC 20581; (202) 418-5690; or Marilee Dahlman, MRAC Alternate Designated Federal Officer, Commodity Futures Trading Commission, Three Lafayette Centre, 1155 21st Street NW, Washington, DC; (202) 247-6544.

SUPPLEMENTARY INFORMATION: The meeting will be open to the public. Seating for the public may be limited due to the CDC's COVID-19 Community Level, which may require facilitating physical distancing to avoid overcrowding and additional restrictions. Members of the public may listen to the meeting by telephone by calling a domestic or international number to connect to a live, listen-only audio feed. Call-in participants should be prepared to provide their first name, last name, and affiliation.

Telephone

Dial (for higher quality, dial a number based on your current location): US: +1 669 254 5252 or +1 646 828 7666 or +1 646 964 1167 or +1 415 449 4000 or +1 551 285 1373 or +1 669 216 1590 or 833 435 1820 (Toll Free) or 833 568 8864 (Toll Free)

International numbers available: https://cftc-gov.zoomgov.com/u/acd9hK3Ztb

Webinar ID: 161 114 1444

Passcode: 001554

The meeting will also be open to the public via webcast on the https://www.cftc.gov website. The meeting agenda may change to accommodate other MRAC priorities. For agenda updates, please visit the MRAC committee site at: https://www.cftc.gov/About/CFTCCommittees/MarketRiskAdvisoryCommittee/mrac_meetings.html.

After the meeting, a transcript of the meeting will be published through a link on the CFTC's website, http://www.cftc.gov. Persons requiring special accommodations to attend the meeting because of a disability should notify the contact person above.

(Authority: 5 U.S.C. 1009(a)(2).)

Dated: February 13, 2023.
Robert Sidman,
Deputy Secretary of the Commission.

[FR Doc. 2023-03344 Filed 2-16-23; 8:45 am]

BILLING CODE 6351-01-P